DEPARTMENT OF HEALTH AND HUMAN SERVICES

Centers for Disease Control and Prevention

[60Day-11-0802]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Active Bacterial Core Surveillance (ABCs) Projects—OMB 0920-0802, Expiration January 31, 2012 (Revision)—National Center for Immunization and Respiratory Disease (NCIRD), Centers for Disease Control and Prevention (CDC).

Background and Brief Description

CDC is requesting a revision to the approved data collection instruments for Active Bacterial Core surveillance (ABCs), to add supplemental questions for invasive methicillin-resistant Staphylococcus aureus (MRSA). CDC requests OMB approval to collect supplemental information to assess risk factors for invasive MRSA among patients recently discharged from acute care hospitals. Seventeen acute care facilities in 7 ABCs/EIP sites (CA, CT, CO, GA, NY, MN, TN) will participate in the collection of supplemental information for ABCs MRSA.

Preventing healthcare-associated invasive MRSA infections is one of CDC's priorities. Essential steps in reducing the occurrence of healthcare-associated invasive MRSA infections are to quantify the burden and to identify modifiable risk factors associated with invasive MRSA disease. The current ABCs MRSA surveillance has been essential to quantify the burden of invasive MRSA in the United States. Through this surveillance CDC was able to estimate that 94,360 invasive MRSA infections associated with 18,650 deaths occurred in the United States in 2005. The majority of these infections (58%) had onset in the community or within 3 days of hospital admission and occurred among individuals with recent healthcare exposures (healthcare-associated community-onset [HACO]). More recent data from the CDC's EIP/ABCs system have shown that two thirds of invasive HACO MRSA infections occur among persons who are discharged from an acute care hospital in the prior 3 months. Risk factors for invasive MRSA infections post-discharge have not been well evaluated, and effective prevention measures in this population remain uncertain.

The goal of the supplemental questions to be added to ABCs MRSA surveillance is to assess risk factors for invasive healthcare-associated MRSA infections, which will inform the development of targeted prevention measures. This activity supports the HHS Action Plan for elimination of healthcare-associated infections. This change will result in minimal impact on the current public burden.

An estimated total of 450 new patients (150 patients with HACO MRSA infection and 300 patients without HACO MRSA infection) will be contacted for the MRSA interview annually. This estimate is based on the numbers of MRSA cases reported by the EIP sites annually (http://www.cdc.gov/abcs/reports-findings/survreports/mrsa08.html) who are 18 years of age or older, had onset of the MRSA infection in the community or within 3 days of hospital admission, and history of hospitalization in the prior 3 months. There are no costs to respondents other than their time. The total response burden for the study is estimated as follows:

The OMB-approved ABCs MRSA form (#0920-0802) will be used to identify patients to be contacted for a telephone interview. These 450 patients will be screened for eligibility and those considered to be eligible will complete the telephone interview. We anticipate that 350 of the 450 patients screened will complete the telephone interview across all 7 EIP sites per year. We anticipate the screening questions to take about 5 minutes and the telephone interview 20 minutes per respondent.

Table—Estimated Burden
Type of respondents | Form name | Number of respondents | Number of responses per respondent | Average burden per respondent (in hours) | Total burden (in hours)
Hospital Patients | Screening Form | 450 | 1 | 5/60 | 38
| Telephone interview | 350 | 1 | 20/60 | 117
Total |  |  |  |  | 155

Dated: August 10, 2011.
Daniel Holcomb,
Reports Clearance Officer, Centers for Disease Control and Prevention.

[FR Doc. 2011-20919 Filed 8-16-11; 8:45 am]

BILLING CODE 4163-18-P